NUCLEAR REGULATORY COMMISSION

[Docket No. 50-151]

Notice and Solicitation of Comments Concerning Proposed Action To Decommission University of Illinois at Urbana-Champaign Nuclear Reactor Laboratory

Notice is hereby given that the U.S. Nuclear Regulatory Commission (the Commission) has received an application from the University of Illinois at Urbana-Champaign dated March 28, 2006, for a license amendment approving its proposed decommissioning plan for the Nuclear Reactor Laboratory (Facility License No. R-115) located in Urbana, Illinois.

In accordance with 10 CFR 20.1405, the Commission is providing notice and soliciting comments from local and State governments in the vicinity of the site and any Indian Nation or other indigenous people that have treaty or statutory rights that could be affected by the decommissioning. This notice and solicitation of comments is published pursuant to 10 CFR 20.1405, which provides for publication in the Federal Register and in a forum, such as local newspapers, letters to State or local organizations, or other appropriate forum, that is readily accessible to individuals in the vicinity of the site.

Comments should be provided within 60 days of the date of this notice to Alexander Adams, Jr., Senior Project Manager, U.S. Nuclear Regulatory Commission, Research and Test Reactors Branch, MS O-12-G-15, Washington, DC 20555.

Further, in accordance with 10 CFR 50.82(b)(5), notice is also provided to interested persons of the Commission's intent to approve the plan by amendment, subject to such conditions and limitations as it deems appropriate and necessary, if the plan demonstrates that decommissioning will be performed in accordance with the regulations and will not be inimical to the common defense and security or to the health and safety of the public.

A copy of the application (Accession Number ML060900623) is available electronically for public inspection in the NRC Public Document Room or from the Publicly Available Records component of the NRC's Agencywide Documents Access and Management System (ADAMS). ADAMS is accessible from the NRC Web site at (the Public Electronic Reading Room) http://www.nrc.gov/reading-rm/adams.html.

Dated at Rockville, Maryland, this 25th day of July 2006.
For the Nuclear Regulatory Commission.
Brian E. Thomas,
Branch Chief, Research and Test Reactors Branch, Division of Policy and Rulemaking, Office of Nuclear Reactor Regulation.

[FR Doc. E6-12371 Filed 7-31-06; 8:45 am]

BILLING CODE 7590-01-P